DEPARTMENT OF COMMERCE

National Oceanic and Atmospheric Administration

50 CFR Part 660

[Docket No. 070227047-7047-01; I.D. 020405C]

RIN 0648-AS96

Fisheries Off West Coast States; West Coast Salmon Fisheries; Amendment 14; Essential Fish Habitat Descriptions for Pacific Salmon

Correction

In proposed rule document 07-1946 beginning on page 19862 in the issue of Friday, April 20, 2007 make the following correction:

On page 19862, in the second column, under the DATES heading, in the last line “July 19, 2007” should read “June 19, 2007”.

[FR Doc. C7-1946 Filed 4-23-07; 8:45 am]

BILLING CODE 1505-01-D

ENVIRONMENTAL PROTECTION AGENCY

40 CFR Part 600

[EPA-HP-OAR-2005-0169; FRL-8257-5]

RIN 2060-AN14

Fuel Economy Labeling of Motor Vehicles: Revisions to Improve Calculation of Fuel Economy Estimates

Correction

Rule document 06-9749, originally published at 71 FR 77872-77969,(77941), December 27, 2006, corrected at 72 FR 7921, February 21, 2007, and is further corrected as follows:

§ 600.114-08 [Corrected]

In correction document C6-9749 in the issue of Wednesday, February 21, 2007, on page 7921, in § 600.114-08(c)(1)(ii)(B), the equation is further corrected to read as follows:

[FR Doc. C6-9749 Filed 4-23-07; 8:45 am]

BILLING CODE 1505-01-D